DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: An Observer Program for At-Sea Processing Vessels in the Pacific Coast Groundfish Fishery.

Form Number(s): None.

OMB Approval Number: 0648-0500.

Type of Request: Regular submission.

Burden Hours: 50.

Number of Respondents: 12.

Average Hours per Response: Observer applications; 15 minutes; observer appeals, 4 hours; observer providers' registrations for observer training and debriefing, observer assignments, and weekly deployment/logistics reports, 7 minutes; observer physicals and observer provider reports on observer harassment, safety or performance concerns, 2 hours; notification of observer physicals, 2 minutes.

Needs and Uses: National Marine Fisheries Service (NMFS) At-Sea Hake Observer Program defines observer duties, trains and debriefs observers, and manages data and release. The observers, deployed aboard at-sea processing vessels in the U.S. West Coast hake (a.k.a. whiting) fishery, are hired by observer providers who contract with the at-sea processors to provide the required observer coverage (50 CFR part 660). This data collection relates to the response time for observer providers and observers to register for training, debriefing or that have been issued suspension or decertification.

Affected Public: Business or other for-profit organizations; individuals or households.

Frequency: Annually and on occasion.

Respondent's Obligation: Required to obtain or retain benefits.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: October 3, 2007.
Gwellnar Banks,
Management Analyst, Office of the Chief Information Officer.

[FR Doc. E7-19861 Filed 10-9-07; 8:45 am]

BILLING CODE 3510-22-P